DEPARTMENT OF ENERGY

Federal Energy Regulatory Commission

Combined Notice of Filings

Take notice that the Commission has received the following Natural Gas Pipeline Rate and Refund Report filings:

Filings Instituting Proceedings

Docket Numbers: RP15-66-000.

Applicants: Natural Gas Pipeline Company of America.

Description: § 4(d) rate filing per 154.204: Macquarie Energy Neg Rate Filing to be effective 11/1/2014.

Filed Date: 10/27/14.

Accession Number: 20141027-5189.

Comments Due: 5 p.m. ET 11/10/14.

Docket Numbers: RP15-67-000.

Applicants: Midcontinent Express Pipeline LLC.

Description: § 4(d) rate filing per 154.204: Devon Gas Negotiated Rate to be effective 11/1/2014.

Filed Date: 10/27/14.

Accession Number: 20141027-5193.

Comments Due: 5 p.m. ET 11/10/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedngs

Docket Numbers: RP14-1198-002.

Applicants: Eastern Shore Natural Gas Company.

Description: Compliance filing per 154.203: Compliance with Order on Filing in Compliance with Order to Show Cause to be effective 10/27/2014.

Filed Date: 10/27/14.

Accession Number: 20141027-5181.

Comments Due: 5 p.m. ET 11/10/14.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2014.
Nathaniel J. Davis, Sr.,
Deputy Secretary.

[FR Doc. 2014-26152 Filed 11-3-14; 8:45 am]

BILLING CODE 6717-01-P